DEPARTMENT OF ENERGY

Federal Energy Regulatory Commission

[Docket No. CP07-398-000; CP07-399-000; CP07-400-000; CP07-401-000; CP07-402-000]

Gulf Crossing Pipeline Company, LLC; Gulf South Pipeline Company, L.P.; Notice of Availability of the Final Environmental Impact Statement for the Proposed Gulf Crossing Project

March 21, 2008.

The staff of the Federal Energy Regulatory Commission (FERC or Commission) has prepared this final Environmental Impact Statement (EIS) for the natural gas pipeline facilities proposed by Gulf Crossing Pipeline Company, LLC (Gulf Crossing) and Gulf South Pipeline Company, L.P. (Gulf South) under the above-referenced dockets. Gulf Crossing and Gulf South's (the Companies) Gulf Crossing Project (Project) would be located in various counties and parishes in Oklahoma, Texas, Louisiana, and Mississippi.

The final EIS was prepared to satisfy the requirements of the National Environmental Policy Act. Based on the analysis included in the final EIS, the FERC staff concludes that approval of the proposed Project with appropriate mitigating measures as recommended, would have limited adverse environmental impacts.

The purpose of the proposed Project is to transport up to 1.73 billion cubic feet per day of natural gas from production fields in eastern Texas and southern Oklahoma to Gulf Coast market hubs that would service the eastern United States. The final EIS addresses the potential environmental effects of construction and operation of the facilities listed below.

Gulf Crossing proposes to construct and operate:

• Approximately 356.3 miles of 42-inch-diameter natural gas transmission pipeline extending east-southeast from Grayson County, Texas and Bryan County, Oklahoma to Madison Parish, Louisiana;

• Four new compressor stations: the Sherman, Paris, Mira, and Sterlington Compressor Stations located in Grayson and Lamar County, Texas and Caddo and Ouachita Parish, Louisiana, respectively, totaling 100,734 horsepower;

• Seven new metering and regulating stations; and

• Other appurtenant ancillary facilities including, mainline valves (MLV), pig launcher and receiver facilities.

Gulf South proposes to construct and operate:

• Approximately 17.8 miles of 42-inch-diameter pipeline loop extending southeast from Hinds County, Mississippi to Simpson County, Mississippi;

• Addition of 30,000 horsepower to its recently approved Harrisville Compressor Station; and

• Other appurtenant ancillary facilities including MLV, pig launcher and receiver facilities.

The final EIS also evaluates alternatives to the proposal, including alternative energy sources, system alternatives, alternative sites for compressor stations, and alternative pipeline routes. Dependent upon Commission approval, Gulf South proposes to complete construction and begin operating the proposed Project by October 2008.

The final EIS has been placed in the public files of the FERC and is available for public inspection at: Federal Energy Regulatory Commission, Public Reference Room, 888 First Street NE., Room 2A, Washington, DC 20426, (202) 502-8371.

A limited number of copies of the final EIS are available from the Public Reference Room identified above. In addition, CD copies of the final EIS have been mailed to affected landowners; various federal, state, and local government agencies; elected officials; environmental and public interest groups; Native American tribes; local libraries and newspapers; intervenors; and other individuals that expressed an interest in the proposed Project. Hard-copies of the final EIS have also been mailed to those who requested that format during the scoping and comment periods for the proposed Project.

Additional information about the proposed Project is available from the Commission's Office of External Affairs, at 1-866-208-FERC or on the FERC Internet Web site (http://www.ferc.gov).

To access information via the FERC website click on the “eLibrary” link then click on “General Search” and enter the docket number excluding the last three digits in the Docket Number field (e.g CP07-398). Be sure you have selected an appropriate date range. The “eLibrary” link provides access to the texts of formal documents issued by the Commission, such as orders, notices, and rulemakings. For assistance with “eLibrary”, please contact FERC Online Support at FercOnlineSupport@ferc.gov or toll free at 1-866-208-3676, or for TTY, contact (202) 502-8659.

The Commission encourages electronic filing of comments. See 18 Code of Federal Regulations 385.2001(a)(1)(iii) and the instructions on the Commission's Internet Web site at http://www.ferc.gov under the link to “Documents and Filings” and “eFiling.” eFiling is a file attachment process and requires that you prepare your submission in the same manner as you would if filing on paper, and save it to a file on your hard drive. New eFiling users must first create an account by clicking on “Sign up” or “eRegister.” You will be asked to select the type of filing you are making. This filing is considered a “Comment on Filing.” In addition, there is a “Quick Comment” option available, which is an easy method for interested persons to submit text only comments on a project. The Quick-Comment User Guide can be viewed at http://www.ferc.gov/docs-filing/efiling/quick-comment-guide.pdf. Quick Comment does not require a FERC eRegistration account; however, you will be asked to provide a valid e-mail address. All comments submitted under either eFiling or the Quick Comment option are placed in the public record for the specified docket or project number(s).

In addition, the Commission now offers a free service called eSubscription which allows you to keep track of all formal issuances and submittals in specific dockets. This can reduce the amount of time you spend researching proceedings by automatically providing you with notification of these filings, document summaries and direct links to these documents. To learn more about eSubscription and to sign-up for this service please go to http://www.ferc.gov/esubscribenow.htm.

Kimberly D. Bose,
Secretary.

[FR Doc. E8-6315 Filed 3-27-08; 8:45 am]

BILLING CODE 6717-01-P